DEPARTMENT OF AGRICULTURE

Cooperative State Research, Education, and Extension Service

Food Safety and Inspection Service

Implementation of the Veterinary Medicine Loan Repayment Program Authorized by the National Veterinary Medical Service Act

AGENCY: Cooperative State Research, Education, and Extension Service and Food Safety and Inspection Service, USDA.

ACTION: Notice of use of funds.

SUMMARY: USDA's Cooperative State Research, Education, and Extension Service (CSREES) and Food Safety and Inspection Service (FSIS) jointly announce their implementation of the Veterinary Medicine Loan Repayment Program authorized in 2003 by the National Veterinary Medical Service Act (NVMSA) (7 U.S.C. 3151a) and first funded in fiscal year (FY) 2006. To enable the first phase of this program, and in keeping with the existing Federal Student Loan Repayment Authority, CSREES has made funds appropriated to carry out the NVMSA available to FSIS to facilitate their recruitment of food animal veterinarians for designated hard-to-fill positions in food safety and supply, especially in rural communities, through the addition of loan repayment incentives to qualifying service agreements. FSIS, in turn, has posted information about positions eligible to receive loan repayments on the careers page of its Web site at http://www.fsis.usda.gov/careers/Student_Loan_Repayments_VMO/index.asp.

DATES: Effective August 24, 2007, FSIS is accepting applications for positions eligible to receive NVMSA loan repayments.

FOR FURTHER INFORMATION CONTACT: For information about FSIS NVMSA loan repayment opportunities: Ronald K. Jones, Phone: 202-720-9521 or Ronald.Jones@fsis.usda.gov. For information about overall implementation of NVMSA: Gary B. Sherman, Phone: 202-401-4952 or Gary.Sherman@csrees.usda.gov.

SUPPLEMENTARY INFORMATION: In January, 2003, the NVMSA passed into law. It established a new Veterinary Medicine Loan Repayment program authorizing the Secretary to carry out a program of entering into agreements with veterinarians under which they provide veterinary services in veterinarian shortage situations. In determining veterinarian shortage situations the Act authorizes the Secretary to consider: (1) Urban or rural areas that the Secretary determines have a shortage of veterinarians; (2) areas of veterinary practice that the Secretary determines have a shortage of veterinarians, such as public health, epidemiology, and food safety; (3) areas of veterinary need in the Federal Government; and (4) other factors the Secretary considers to be relevant.

In November 2005, the Agriculture, Rural Development, Food and Drug Administration, and Related Agencies Appropriations Act, 2006 (Pub. L. 109-97) appropriated $500,000 for CSREES to implement the Veterinary Medicine Loan Repayment program and represented the first time funds had been expressly appropriated for this program. In February 2007, the Revised Continuing Appropriations Resolution, 2007 (Pub. L. 110-5) appropriated an additional $495,000 for CSREES for the program.

Beginning in the fall of 2005, CSREES hosted information sharing meetings on NVMSA and created a working group to explore implementation strategies that took into consideration the relatively modest appropriation for the loan repayment program. The working group developed a plan to lead a program that meets the intent of the authorizing legislation, is congruent with the mission and capabilities of the Agency, and draws on the expertise of other agencies, as appropriate. The plan received the support of the Secretary of Agriculture, and, on March 19, 2007, the authority to implement the Veterinary Medicine Loan Repayment program was delegated to CSREES which allowed the agency to proceed with implementing the first phase of the program (7 CFR Part 2).

As a first step toward implementing the authorizing legislation this FY and in keeping with the already-existing Federal Student Loan Repayment Authority (5 U.S.C. 5379), in May 2007, CSREES made $750,000 in FY 2006 and 2007 NVMSA funds available to facilitate FSIS' recruitment of food animal veterinarians for designated hard-to-fill positions in food safety and supply, especially in rural communities. In addition to existing hiring incentives, and according to the above repayment authority and service agreements between FSIS and eligible recruits, FSIS intends to use these funds to offer 25 veterinarians payments of $10,000 per year over 3 years to repay their educational debt in exchange for practicing in areas of veterinarian shortage or need. A current listing of shortage or need areas and other timely information about NVMSA loan repayments to Federal veterinarians are available on the careers page of the FSIS Web site at http://www.fsis.usda.gov/careers/Student_Loan_Repayments_VMO/index.asp.

Anticipating the possibility of future budgetary growth and intending to extend this program to non-federal positions, CSREES plans to publish in the Federal Register a Request for Information from stakeholders to gather input on the best way(s) to define veterinarian shortage situations within the limits of the authorizing legislation and cost-effectively administer a larger-scale loan repayment program for non-Federal veterinarians who serve in these situations.

Done at Washington, DC this 20th day of August, 2007.
Colien Hefferan,
Administrator, Cooperative State Research, Education, and Extension Service.
Alfred V. Almanza,
Administrator, Food Safety and Inspection Service.

[FR Doc. 07-4138 Filed 8-23-07; 8:45 am]

BILLING CODE 3410-22-P